UNITED STATES INTERNATIONAL TRADE COMMISSION

[Investigation No. 731-TA-739 (Review)]

Clad Steel Plate From Japan

Determination

On the basis of the record ¹ developed in the subject five-year review, the United States International Trade Commission determines, pursuant to section 751(c) of the Tariff Act of 1930 (19 U.S.C. 1675(c)), that revocation of the antidumping duty order on clad steel plate from Japan would be likely to lead to continuation or recurrence of material injury to an industry in the United States within a reasonably foreseeable time.

¹ The record is defined in 207.2(f) of the Commission's Rules of Practice and Procedure (19 CFR § 207.2(f)).

Background

The Commission instituted this review on June 1, 2001 (66 FR 29829, June 1, 2001) and determined on September 4, 2001 that it would conduct an expedited review (66 FR 49040, September 25, 2001).

The Commission transmitted its determination in this review to the Secretary of Commerce on October 29, 2001. The views of the Commission are contained in USITC Publication 3459 (October 2001), entitled Clad Steel Plate from Japan: Investigation No. 731-TA-739 (Review).

Issued: October 29, 2001.
By order of the Commission.
Donna R. Koehnke,
Secretary.

[FR Doc. 01-27540 Filed 11-1-01; 8:45 am]

BILLING CODE 7020-02-P